DEPARTMENT OF COMMERCE

National Oceanic and Atmospheric Administration

RIN 0648-XF267

Marine Mammals; File No. 21155

AGENCY: National Marine Fisheries Service (NMFS), National Oceanic and Atmospheric Administration (NOAA), Commerce.

ACTION: Notice; receipt of application.

SUMMARY: Notice is hereby given that Karina Amaral, Federal University of Rio Grande do Sul, Zoology Department, Avenida Bento Goncalves, 9500 Build 43435, Room 206, Porto Alegre, MI, 91.501-970, Brazil, has applied in due form for a permit to import specimens of Atlantic spotted dolphins (Stenella frontalis) for scientific research.

DATES: Written, telefaxed, or email comments must be received on or before April 14, 2017.

ADDRESSES: The application and related documents are available for review by selecting “Records Open for Public Comment” from the “Features” box on the Applications and Permits for Protected Species (APPS) home page, https://apps.nmfs.noaa.gov, and then selecting File No. 21155 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Jennifer Skidmore or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant is requesting a permit to import 118 DNA samples from the Federal University of Rio Grande Do Sul in Brazil to the University of Michigan, Ecology and Evolutionary Biology Department in Ann Arbor, MI, for genetics research. The samples were collected between 1996 and 2016 via biopsy sampling or from stranded animals, in accordance with the laws of Brazil. Results will provide insights regarding the population structure of this species in the Southwestern Atlantic Ocean. The requested duration of the permit is five months.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 10, 2017.
Julia Harrison,
Chief, Permits and Conservation Division, Office of Protected Resources, National Marine Fisheries Service.

[FR Doc. 2017-05131 Filed 3-14-17; 8:45 am]

BILLING CODE 3510-22-P